DEPARTMENT OF ENERGY

Orders Granting Authority To Import and Export Natural Gas, and To Import and Export Liquefied Natural Gas During May 2013

| FE DOCKET NOS.
CASCADE NATURAL GAS CORPORATION | 12-179-NG
CASCADE NATURAL GAS CORPORATION | 12-178-NG
CASCADE NATURAL GAS CORPORATION | 12-180-NG
SV LNG TRADING COMPANY | 13-48-LNG
CHEVRON U.S.A. INC | 13-49-NG
U.S. GAS & ELECTRIC, INC | 13-47-NG
GAVILON, LLC | 13-50-NG
HERMISTON GENERATING COMPANY, L.P | 13-52-NG
FREEPORT LNG EXPANSION, L.P. AND FLNG LIQUEFACTION, LLC) | 10-161-LNG
REV LNG LLC | 13-53-LNG
SITHE/INDEPENDENCE POWER PARTNERS, L.P | 13-58-NG
CITY OF PASADENA | 13-54-NG
SOUTHERN CALIFORNIA GAS COMPANY | 13-55-NG
GDF SUEZ GAS NA LLC | 13-56-LNG
CNE GAS SUPPLY, LLC | 13-57-NG
IDAHO POWER COMPANY | 13-60-NG
FREEPORT-MCMORAN ENERGY LLC | 13-26-LNG
RBC ENERGY SERVICES L.P | 13-59-NG
ALTAGAS MARKETING (U.S. INC.) | 13-62-NG
BP WEST COAST PRODUCTS LLC | 13-64-NG
PENTACLES ENERGY, LLLP | 13-65-NG

AGENCY: Office of Fossil Energy, Department of Energy (DOE).

ACTION: Notice of orders.

SUMMARY: The Office of Fossil Energy (FE) of the Department of Energy gives notice that during May 2013, it issued orders granting authority to import and export natural gas and to import and export liquefied natural gas. These orders are summarized in the attached appendix and may be found on the FE Web site at http://www.fossil.energy.gov/programs/gasregulation/authorizations/Orders-2013.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on July 18, 2013.
John A. Anderson,
Manager, Natural Gas Regulatory Activities, Office of Oil and Gas Global Security and Supply, Office of Fossil Energy.

Appendix

DOE/FE Orders Granting Import/Export Authorizations
3274 | 05/01/13 | 12-178-NG | Cascade Natural Gas Corporation | Order granting long-term authority to import natural gas from Canada.
3275 | 05/01/13 | 12-179-NG | Cascade Natural Gas Corporation | Order granting long-term authority to import natural gas from Canada.
3276 | 05/01/13 | 12-180-NG | Cascade Natural Gas Corporation | Order granting long-term authority to import natural gas from Canada.
3277 | 05/02/13 | 13-48-LNG | SV Global LNG Trading Company, LLC | Order granting blanket authority to import LNG from various international sources by vessel.
3278 | 05/02/13 | 13-49-NG | Chevron U.S.A., Inc | Order granting blanket authority to import/export natural gas from/to Canada.
3279 | 05/07/13 | 13-47-NG | U.S. Gas & Electric, Inc | Order granting blanket authority to import natural gas from Canada.
3280 | 05/07/13 | 13-50-NG | Gavilon, LLC | Order granting blanket authority to import/export natural gas from/to Canada.
3281 | 05/07/13 | 13-52-NG | Hermiston Generating Company, L.P | Order granting blanket authority to import natural gas from Canada.
3282 | 05/17/13 | 10-161-LNG | Freeport LNG Expansion, L.P. and FLNG Liquefaction, LLC | Order conditionally granting long-term authority to export LNG by vessel from the Freeport LNG Terminal on Quintana Island, Texas to Non-Free Trade Agreement Nations.
3283 | 05/22/13 | 13-53-LNG | Rev LNG LLC | Order granting blanket authority to export LNG to Canada by truck.
3284 | 05/22/13 | 13-58-NG | Sithe/Independence Power Partners, L.P | Order granting blanket authority to import natural gas from Canada.
3285 | 05/23/13 | 13-54-NG | City of Pasadena | Order granting blanket authority to import/export natural gas from/to Canada.
3286 | 05/23/13 | 13-55-NG | Southern California Gas Company | Order granting blanket authority to import/export natural gas from/to Mexico.
3287 | 05/23/13 | 13-56-NG | GDF SUEZ Gas NA LLC | Order granting blanket authority to import LNG from Canada by truck.
3288 | 05/23/13 | 13-57-NG | CNE Gas Supply, LLC | Order granting blanket authority to import natural gas from Canada.
3289 | 05/23/13 | 13-60-NG | Idaho Power Company | Order granting blanket authority to import natural gas from Canada.
3290 | 05/24/13 | 13-26-LNG | Freeport-McMoRan Energy LLC | Order granting long-term multi-contract authority to export LNG by vessel from the proposed Main Pass Energy Hub Deepwater Port 16 miles offshore of Louisiana to Free Trade Agreement Nations.
3291 | 05/31/13 | 13-59-NG | RBC Energy Services L.P | Order granting blanket authority to import/export natural gas from/to Canada.
3292 | 05/31/13 | 13-62-NG | AltaGas Marketing (U.S.) Inc | Order granting blanket authority to import/export natural gas from/to Canada.
3293 | 05/31/13 | 13-64-NG | BP West Coast Products LLC | Order granting blanket authority to import/export natural gas from/to Canada.
3294 | 05/31/13 | 13-65-NG | Pentacles Energy, LLLP | Order granting blanket authority to export natural gas to Mexico and to export LNG to Mexico by vessel and by truck.

[FR Doc. 2013-17897 Filed 7-24-13; 8:45 am]

BILLING CODE 6450-01-P